JUDICIAL CONFERENCE OF THE UNITED STATES

Hearings of the Judicial Conference Advisory Committees on Rules of Bankruptcy and Criminal Procedure, and Rules of Evidence

AGENCY: Advisory Committees on Rules of Bankruptcy and Criminal Procedure, and Rules of Evidence, Judicial Conference of the United States.

ACTION: Notice of cancellation of two open hearings and rescheduling of one open hearing.

SUMMARY: The following public hearings on proposed rules amendments have been canceled:

• Bankruptcy Rules in Washington, DC., on January 24, 2003; and

• Criminal Rules in Atlanta, Georgia, on January 31, 2003.

The public hearing on proposed amendments to the Evidence Rules, originally scheduled for January 27, 2003, has been rescheduled for April 25, 2003, in Washington, DC. Original notice of hearings appeared in the Federal Register of August 23, 2002.

Notice of Open Hearings

FOR FURTHER INFORMATION CONTACT: John K. Rabiej, Chief, Rules Committee Support Office, Administrative Office of the United States Courts, One Columbus Circle, NE., Washington, DC 20544, telephone (202) 502-1820.

Dated: January 9, 2003.
John K. Rabiej,
Chief, Rules Committee Support Office.

[FR Doc. 03-835 Filed 1-14-03; 8:45 am]

BILLING CODE 2210-55-M